DEPARTMENT OF HEALTH AND HUMAN SERVICES

Substance Abuse and Mental Health Services Administration

Funding Opportunity Title: State Incentive Grants to Build Capacity for Alternatives to Restraint and Seclusion (Short Title: Alternatives to Restraint and Seclusion SIG)

Announcement Type: Initial.

Funding Opportunity Number: SM-04-007.

Catalog of Federal Domestic Assistance (CFDA) Number: 93.243.

Due Date for Applications: June 1, 2004.

(Note: Letters from State Single Point of Contact (SPOC) in response to E.O. 12372 are due August 2, 2004.)

SUMMARY: The Substance Abuse and Mental Health Services Administration (SAMHSA), Center for Mental Health Services (CMHS), announces the availability of FY 2004 funds for State Incentive Grants to Build Capacity for Alternatives to Restraint and Seclusion. A synopsis of this funding opportunity, as well as many other Federal government funding opportunities, are also available at the Internet site: www.grants.gov.

For complete instructions, potential applicants must obtain a copy of SAMHSA's standard Infrastructure Grants Program Announcement (INF-04 PA (MOD)) and the (PHS 5161-1, Rev. 7/00) application form before preparing and submitting an application. The INF-04 PA (MOD) describes the general program design and provides instructions on how to apply for all SAMHSA Infrastructure Grants, including the Alternatives to Restraint and Seclusion SIG. Additional instructions and requirements specific to the Restraint and Seclusion SIG are described below.

I. Funding Opportunity Description

Authority: Title 4. Public Health and Welfare, chapter 6A—Public Health Service, subchapter III A—Substance Abuse and Mental Health Services Administration, part A Organization and General Authority, as amended, 42 U.S.C. 290aa et seq., the Children's Health Act of 2000, part H, Requirement Relating to the Rights of Residents of Certain Facilities (42 U.S.C. at 290ii-290ii-2), and part I, Requirement Relating to the Rights of Residents of Certain Non Medical, Community-based Facilities for Children and Youth (42 U.S.C. at 290jj-1—290jj-2), and the Protection and Advocacy for Individuals with Mental Illness Act of 1986, as amended, (42 U.S.C. 10801 et seq.).

The Alternatives to Restraint and Seclusion SIG program is one of SAMHSA's Infrastructure Grants. SAMHSA's Infrastructure Grants provide funds to increase the capacity of mental health and/or substance abuse service systems to support programs and services.

The purpose of the Alternatives to Restraint and Seclusion SIG program is to support States in their efforts to adopt best practices to reduce and ultimately eliminate the use of restraint and seclusion in institutional and community-based settings that provide mental health services (including services for people with co-occurring substance abuse and mental health disorders). Through the Alternatives to Restraint and Seclusion SIG program, States will: (1) Increase the number of programs that adopt best practices involving alternative approaches to reduce restraint and seclusion, including staff training models and other multi-faceted approaches; and (2) collect data to document the program's impact on reducing seclusion and restraint use and adoption of alternative practices.

Background: Seclusion and restraint are often misused in the course of mental health care. Deaths and injuries due to seclusion and restraint are estimated at approximately 150 per annum across the nation. Children with serious emotional disturbances are especially at high risk for deaths and serious injury from these practices. Persons with co-occurring problems also appear at risk, as do elderly adults in nursing homes and other settings. In addition to the very real risk of death and injury, individuals who have experienced previous physical or sexual abuse can suffer further traumatization when subjected to these practices. This effort builds on the existing SAMHSA/CMHS grant program begun in FY 2001, to identify effective alternative practices, including training efforts, to reduce restraint and seclusion practices, and will promote the application of the findings from that grant program. Additional resources related to restraint and seclusion best practices are listed in the Appendix to this document.

II. Award Information

1. Estimated Funding Available/Number of Awards: It is expected that up to $1.9 million will be available to fund up to eight awards in FY 2004. The maximum allowable award is $237,000 in total costs (direct and indirect) per year for up to three years. Proposed budgets cannot exceed the allowable amount in any year of the proposed project. The actual amount available for the awards may vary, depending on unanticipated program requirements and the number and quality of the applications received. Annual continuations will depend on the availability of funds, grantee progress in meeting program goals and objectives, and timely submission of required data and reports.

2. Funding Instrument: Grant.

III. Eligibility Information

1. Eligible Applicants are agencies of States, the District of Columbia, Territories and Native American tribal governments (federally recognized) with jurisdiction over mental health issues for the target population identified in the proposed project. The statutory authority for this program prohibits grants to for-profit organizations. Eligible applicants must have the capacity to report incidents to their State Protection and Advocacy system, specifically the Protection and Advocacy for Individuals with Mental Illness (PAIMI) Program, as required under the Children's Health Act of 2000. These eligibility criteria supersede the criteria specified in section III-1 of the INF-04 PA (MOD).

2. Cost Sharing or Matching is not required.

3. Other: Applicants must also meet certain application formatting and submission requirements or the application will be screened out and will not be reviewed. These requirements are described in section IV-2 below as well as in the INF-04 PA (MOD).

Documentation of Eligibility—Applicants must demonstrate that they are currently in compliance with provisions of the Children's Act of 2000, pertaining to the use of restraint and seclusion, by providing the following documentation in Appendix 6, “Restraint and Seclusion Documentation,” of their applications (there are no page limitations for Appendix 6):

(1) A copy of the State's administrative procedures, regulations, or statutes addressing issues related to restraint and seclusion.

(2) Policies and procedures related to certification of facility personnel in issues related to restraint and seclusion. Minimum educational requirements of staff authorized to approve restraint and seclusion techniques must also be provided. If there are no such requirements, a statement to that effect must be included.

(3) The State's reporting requirements related to serious injury and/or death resulting from restraint and seclusion techniques, including the process for sharing this information with the State's Protection and Advocacy Agency.

IV. Application and Submission Information

1. Address to Request Application Package: Complete application kits may be obtained from the National Mental Health Information Center at 1-800-789-2647. When requesting an application kit for this program, the applicant must specify the funding opportunity title (Alternatives to Restraint and Seclusion SIG) and the funding opportunity number (SM 04-007) for which detailed information is desired. All information necessary to apply, including where to submit applications and application deadline instructions, are included in the application kit. The PHS 5161-1 application form is also available electronically via SAMHSA's World Wide Web home page: http://www.samhsa.gov (Click on “Grant Opportunities”) and the INF-04 PA (MOD) is available electronically at http://www.samhsa.gov/grants/2004/standard/Infrastructure/index.asp.

When submitting an application, be sure to type “SM 04-007/Alternatives to Restraint and Seclusion SIG” in Item Number 10 on the face page of the application form. Also, SAMHSA applicants are required to provide a DUNS Number on the face page of the application. To obtain a DUNS Number, access the Dun and Bradstreet Web site at www.dunandbradstreet.com or call 1-866-705-5711.

2. Content and Form of Application Submission: Information including required documents, required application components, and application formatting requirements are available in the INF-04 PA (MOD) in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

—Use the PHS 5161-1 application.

—Applications must be received by the application deadline. Applications received after this date must have a proof of mailing date from the carrier dated at least 1 week prior to the due date. Private metered postmarks are not acceptable as proof of timely mailing. Applications not received by the application deadline or not postmarked at least 1 week prior to the application deadline will not be reviewed.

—Information provided must be sufficient for review.

—Text must be legible.

• Type size in the Project Narrative cannot exceed an average of 15 characters per inch, as measured on the physical page. (Type size in charts, tables, graphs, and footnotes will not be considered in determining compliance.)

• Text in the Project Narrative cannot exceed 6 lines per vertical inch.

—Paper must be white paper and 8.5 inches by 11.0 inches in size.

—To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

—The page limit for Appendices stated in the specific funding announcement cannot be exceeded.

—To facilitate review of your application, follow these additional guidelines. Failure to adhere to the following guidelines will not, in itself, result in your application being screened out and returned without review. However, the information provided in your application must be sufficient for review. Following these guidelines will help ensure your application is complete, and will help reviewers to consider your application.

—The 10 application components required for SAMHSA applications should be included. These are:

• Face Page (Standard Form 424, which is in PHS 5161-1);

• Abstract;

>• Table of Contents;

• Budget Form (Standard Form 424A, which is in PHS 5161-1);

• Project Narrative and Supporting Documentation;

• Appendices;

• Assurances (Standard Form 424B, which is in PHS 5161-1);

• Certifications (a form in PHS 5161-1);

• Disclosure of Lobbying Activities (Standard Form LLL, which is in PHS 5161-1);

• Checklist (a form in PHS 5161-1).

—Applications should comply with the following requirements:

• Provisions relating to confidentiality, participant protection and the protection of human subjects, as indicated in the specific funding announcement.

• Budgetary limitations as indicated in sections I, II, and IV-5 of the specific funding announcement.

• Documentation of nonprofit status as required in the PHS 5161-1.

—Pages should be typed single-spaced with one column per page.

—Pages should not have printing on both sides.

—Please use black ink, and number pages consecutively from beginning to end so that information can be located easily during review of the application. The cover page should be page 1, the abstract page should be page 2, and the table of contents page should be page 3. Appendices should be labeled and separated from the Project Narrative and budget section, and the pages should be numbered to continue the sequence.

—Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 1, 2004. You will be notified by postal mail that your application has been received. Additional information is available in the INF-04 PA (MOD) in section IV-3.

4. Intergovernmental Review: Applicants for this funding opportunity must comply with Executive Order 12372 (E.O.12372). E.O.12372, as implemented through Department of Health and Human Services regulation at 45 CFR part 100, sets up a system for State and local review of applications for Federal financial assistance. Instructions for complying with E.O. 12372 are provided in the INF-04 PA (MOD) in section IV-4. A current listing of State Single Points of Contact (SPOCs) is included in the application kit and is available at www.whitehouse.gov/omb/grants/spoc.html.

5. Funding Restrictions: Information concerning funding restrictions is available in the INF-04 PA (MOD) in section IV-5.

V. Application Review Information

1. Evaluation Criteria: Applications will be reviewed against the Evaluation Criteria and requirements for the Project Narrative specified in the INF-04 PA (MOD). The following information describes exceptions or limitations to the INF-04 PA (MOD) and provides special requirements that pertain only to Alternatives to Restraint and Seclusion SIG grants. Applicants must discuss the following requirements in their applications, in addition to the requirements specified in the INF-04 PA (MOD):

1.1 In “Section A: Statement of Need”: a. Applicants must identify the age group that will be targeted through the proposed project. Grantees may address any group(s) across the lifespan, but must target adults with serious mental illnesses (SMI) and/or children/youth with serious emotional disturbances (SED), including persons with SMI, co-occurring disorders or other disabilities.

b. Applicants must report on the following outcome indicators. This information must be provided in total and by race/ethnicity, gender and diagnosis:

(1) The number of incidents involving the use of restraint and seclusion for calendar years 2002 and 2003 (January 1, 2002—December 31, 2003).

(2) The number and types of injuries (minor to severe) related to incidents involving the use of restraint and seclusion for calendar years 2002 and 2003 (January 1, 2002—December 31, 2003).

(3) The number of deaths related to incidents involving the use of restraint and seclusion for calendar years 2002 and 2003 (January 1, 2002—December 31, 2003).

(4) The number of facilities within the State, territory or tribe in which administrators are implementing alternatives to the use of restraint and seclusion.

1.2 In “Section B: Proposed Approach”: Applicants must identify the best practice that is being proposed for implementation. Resources to assist in identifying restraint and seclusion best practices are provided in the Appendix at the end of this NOFA.

1.3 Performance Measurement: All SAMHSA grantees are required to collect and report certain data, so that SAMHSA can meet its obligation under the Government Performance and Results Act (GPRA). Applicants must document their ability to collect and report data on these indicators in “Section D: Evaluation and Data,” of their Project Narrative. SAMHSA will work with grantees to finalize a standard methodology related to these indicators shortly after award, and will seek the Office of Management and Budget's approval for use of these indicators by the grantees. Grantees of the Alternatives to Restraint and Seclusion SIG program will be required to report on the following performance indicators:

(1) The number of programs that adopt best practices involving alternative approaches to reduce restraint and seclusion, including staff training models and other multi-faceted approaches.

(2) The number of incidents of the use of restraint and seclusion techniques.

(3) In addition, you must document which of the following variables you have the ability to collect and report on. CMHS will select a set of core measures from among these measures that all grantees will be required to report on post award.

(a) Temporal data (e.g., time of day, day of week, special events/holidays);

(b) Episode location;

(c) Episode precipitants (e.g., assaults on staff, assaults on peers, property damage);

(d) Gender;

(e) Age;

(f) Race/ethnicity;

(g) Developmental/cognitive age;

(h) Unit/program where the individual is housed or treated;

(i) Precipitous discharges;

(j) Monitoring;

(k) Debriefing;

(l) Restraint types used (e.g., prone, seated, mechanical, etc.).

1.4 Additional Information: Applicants should be aware that a Coordination Center will be established through a separate contract to collect and analyze data from grantees, assess the impact of the grants, and act as a resource center to States and others on restraint and seclusion. The Coordination Center also will provide technical support and information to increase capacity of grantees and others to adopt best practices.

2. Review and Selection Process: Information about the review and selection process is available in the INF-04 PA (MOD) in Section V-2.

VI. Award Administration Information

Award administration information, including award notices, administrative and national policy requirements, and reporting requirements are available in the INF-04 PA (MOD) in Section VI. SAMHSA's standard terms and conditions are available at www.samhsa.gov/grants/2004/useful_info.asp.

VII. Agency Contact for Additional Information

For questions about program issues contact: Karen Armstrong, SAMHSA/CMHS, 5600 Fishers Lane, Room 15C-21, Rockville, MD 20857; 301-443-3667; e-mail: karmstro@samhsa.gov. For questions on grants management issues contact: Gwendolyn Simpson, SAMHSA/Division of Grants Management, 5600 Fishers Lane, Room 13-103, Rockville, MD 20857; 301-443-4456; e-mail: gsimpson@samhsa.gov.

Appendix—Resources Related to Restraint and Seclusion Best Practices

1. Leading the Way Toward a Seclusion and Restraint Free Environment—Pennsylvania's Success Story, Office of Mental Health and Substance Abuse Services, Commonwealth of Pennsylvania, (Hardenstine, B., October 2001).

2. Reducing the Use of Seclusion and Restraint, the National Association of State Mental Health Program Directors (1999-2002).

3. Learning from Each Other, the American Psychiatric Association, the American Psychiatric Nurses Association, and the National Association of Psychiatric Health Systems (2003).

4. The Use of Restraints, Seclusion and Exclusion in State Mental Hospitals and Restoration Center, the Office of Mental Health and Substance Abuse, Department of Public Welfare, the Commonwealth of Pennsylvania (SMH-01-02, June 2001).

5. Reporting Abuses of Persons with Disabilities, Department of Health and Human Services, Office of Inspector General, May 2001, A-01-00-02502.

6. Partnership Beyond Restraints: A Statewide Educational Intervention to Reduce Restraint Use, Annals of Long-Term Care, American Geriatric Society, Dunbar, J, and Neufeld, R., May 2002.

7. Improper Restraint or Seclusion Use Places People at Risk, United States Government Accounting Office (GAO), September 1999, GAO/HEHA-99-176.

8. Deadly Restraint, Hartford Courant, a Connecticut newspaper (October 1998).

9. “Is It Meant to Hurt, Is It?”—Management of Violence in Women with Developmental Disabilities, Violence Against Women, Halstead, S. H., (April 2001).

10. Treatment and Management of Challenging Behaviors in Residential Settings, Journal of Applied Research in Intellectual Disabilities, Emerson E. et al., 2000.

11. Seclusion and Restraint: A Review of Recent Literature, Harvard Review of Psychiatry, Busch AB, Shore MF, (November 2000).

12. Staff Training Decreases Use of Seclusion and Restraint in an Acute Psychiatric Hospital, Archives of Psychiatric Nursing, Forster PL, Cavness C., (October 1999).

13. Behavior Management: Best Practices, Child Welfare League of America (2001).

14. Reducing the Use of Restraint and Seclusion: Promising Practices and Successful Strategies, Child Welfare League of America, Bullard, L., Fulmore, D. et al. (2003).

15. Practicing Restraint, Children's Voice, Kirkwood, Scott, (September/October 2003).

Dated: March 17, 2004.
Margaret M. Gilliam,
Acting Director, Office of Policy, Planning and Budget, Substance Abuse and Mental and Mental Health Services Administration.

[FR Doc. 04-6376 Filed 3-22-04; 8:45 am]

BILLING CODE 4162-20-P